CONSUMER PRODUCT SAFETY COMMISSION

Sunshine Act Meetings

Federal Register Citation of Previous Announcement: Vol. 78, No. 7, Thursday, January 10, 2013, page 2257.

Change in Announced Time and Date of Open Meeting: 10 a.m.-11 a.m., Wednesday January 16, 2013.

Changes To Open Meeting Agenda

Matters to be Considered: Decisional Matter: Fiscal Year 2013 Operating Plan.

Item Removed from the Agenda: Decisional Matter: Section 1110 Certification of Compliance—Notice of Proposed Rulemaking.

For a recorded message containing the latest agenda information, call (301) 504-7948.

Contact Person For Additional Information: Todd A. Stevenson, Office of the Secretary, 4330 East West Highway, Bethesda, MD 20814 (301) 504-7923.

Dated: January 10, 2013.
Todd A. Stevenson,
Secretary.

[FR Doc. 2013-00762 Filed 1-11-13; 11:15 am]

BILLING CODE 6355-01-P